NATIONAL CREDIT UNION ADMINISTRATION

Sunshine Act; Notice of Agency Meeting

Time and Date: 10 a.m., Thursday, April 29, 2010.

Place: Board Room, 7th Floor, Room 7047, 1775 Duke Street, Alexandria, VA 22314-3428.

Status: Open.

Matters to be Considered: 1. Proposed Rule—Section 701.21(c) of NCUA's Rules and Regulations, Short-term, Small-dollar Loans.

2. Waiver under Part 704 of NCUA's Rules and Regulations.

3. Insurance Fund Report.

Recess: 11 a.m.

Time and Date: 11:15 a.m., Thursday, April 29, 2010.

Place: Board Room, 7th Floor, Room 7047, 1775 Duke Street, Alexandria, VA 22314-3428.

Status: Closed.

Matters to be Considered: 1. Consideration of Supervisory Activities. Closed pursuant to Exemptions (8), (9)(A)(ii) and 9(B).

2. Personnel. Closed pursuant to Exemption (2).

FOR FURTHER INFORMATION CONTACT: Mary Rupp, Secretary of the Board, Telephone: 703-518-6304

Mary Rupp,
Board Secretary.

[FR Doc. 2010-9806 Filed 4-23-10; 11:15 am]

BILLING CODE 7535-01-P